DEPARTMENT OF AGRICULTURE

Farm Service Agency

[Docket ID: FSA-2023-0021]

Information Collection Request; Urban Agriculture Cooperative Agreement

AGENCY: Farm Service Agency, United States Department of Agriculture.

ACTION: Notice; request for comments.

SUMMARY: In accordance with the Paperwork Reduction Act, the Farm Service Agency (FSA) is requesting comments from all interested individuals and organizations on a new information collection request associated with Urban Agriculture Cooperative Agreements. The awarded cooperators are assisting FSA in providing outreach, education, resources, and technical assistance for urban agriculture producers to access USDA programs and focus on long-term food sovereignty in historically marginalized and underfunded communities.

DATES: We will consider comments that we receive by January 5, 2024.

ADDRESSES: We invite you to submit comments on this notice. You may submit comments electronically through the Federal eRulemaking Portal: Go to http://www.regulations.gov and search for Docket ID FSA-2023-0021. Follow the online instructions for submitting comments.

All comments received will be posted without change and will be publicly available on http://www.regulations.gov.

FOR FURTHER INFORMATION CONTACT: William O. Cruz, telephone: (202) 205-4567; email: william.cruz@usda.gov.

SUPPLEMENTARY INFORMATION:

Description of Information Collection Request

Title: Urban Agriculture Cooperative Agreement.

OMB Control Number: 0560-0000.

Type of Request: New.

Abstract: The awarded cooperators are working to successfully implement urban agriculture outreach, training, technical assistance, and education to urban agriculture communities. With the complex nature of some of FSA's programs, FSA is focusing on additional outreach and education to producers who could benefit from additional outreach to (1) increase knowledge, awareness, and participation in FSA and USDA programs and services associated with growing food in an urban area; (2) assist farmers with expanding their farming operations, accessing land, and implementing climate-friendly practices that can mitigate their susceptibility to natural disasters in urban areas; and (3) increase representation of underserved farmers serving on Urban County Committees.

FSA is requesting comments on the project's semi-annual progress reports that the awarded cooperators are required to submit to FSA. We received OMB clearance to use the electronic submission (SF-270, SF-424 and SF-425) in the Grants.gov.

For the following estimated total annual burden on respondents, the formula used to calculate the total burden hour is the estimated average time per responses hours multiplied by the estimated total annual responses.

Estimate of Annual Burden: Public reporting burden for the collection of information is estimated to average 10 hours per response.

Respondents: Cooperators.

Estimated Number of Respondents: 18.

Estimated Number of Responses per Respondent: 2.

Estimated Total Annual Number of Responses: 36.

Estimated Average Time per Response: 10 hours.

Estimated Total Annual Burden Hours: 360 hours.

We are requesting comments on all aspects of the information collections to help us:

(1) Evaluate whether the proposed collection of information is necessary for the proper performance of the functions of the agency, including whether the information will have practical utility;

(2) Evaluate the accuracy of the agency's estimate of the burden of the collection of information including the validity of the methodology and assumptions used;

(3) Evaluate the quality, utility, and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval of the information collection.

Zach Ducheneaux,
Administrator, Farm Service Agency.

[FR Doc. 2023-24413 Filed 11-3-23; 8:45 am]

BILLING CODE 3410-E2-P